COMMITTEE FOR PURCHASE FROM PEOPLE WHO ARE BLIND OR SEVERELY DISABLED

Procurement List; Proposed Additions And Deletions

AGENCY: Committee for Purchase From People Who Are Blind or Severely Disabled.

ACTION: Proposed Additions to the Procurement List.

SUMMARY: The Committee is proposing to add to the Procurement List a product and a service to be furnished by nonprofit agencies employing persons who are blind or have other severe disabilities.

COMMENTS MUST BE RECEIVED ON OR BEFORE: August 24, 2008.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Kimberly M. Zeich, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the product(s) and/or service(s) listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product(s) and/or service(s) to the Government.

2. If approved, the action will result in authorizing small entities to furnish the product(s) and/or service(s) to the Government.

3. There are no known regulatory alternatives which would accomplish the objectives of the Javits-Wagner-O'Day Act (41 U.S.C. 46-48c) in connection with the product(s) and/or service(s) proposed for addition to the Procurement List.

Comments on this certification are invited. Commenters should identify the statement(s) underlying the certification on which they are providing additional information.

End of Certification

The following product(s) and/or service(s) are proposed for addition to the Procurement List for production by the nonprofit agencies listed:

Product

Target, Silhouette.

NSN: 6920-00-795-1807.

NPA: North Central Sight Services, Inc., Williamsport, PA.

Coverage: C-List for the Government requirement of the Defense Supply Center Philadelphia, Philadelphia, PA.

Contracting Activity: Defense Supply Center Philadelphia, Philadelphia, PA.

Services

Service Type/Location(s): Janitorial Services.

San Francisco Maritime Museum Building, 900 Beach Street;

San Francisco Hyde Street Pier, 2905 Hyde Street;

San Francisco Maritime Visitor Center, 499 Jefferson Street, San Francisco, CA.

NPA: Toolworks, Inc., San Francisco, CA.

Contracting Activity: U.S. Department of the Interior, National Park Service, Oakland, CA.

Kimberly M. Zeich,
Director, Program Operations.

[FR Doc. E8-17104 Filed 7-24-08; 8:45 am]

BILLING CODE 6353-01-P